ENVIRONMENTAL PROTECTION AGENCY

[FRL-9641-01-OMS]

Privacy Act of 1974; System of Records

AGENCY: Office of Land and Emergency Management (OLEM), Environmental Protection Agency (EPA).

ACTION: Notice of a modified system of records.

SUMMARY: The U.S. Environmental Protection Agency's (EPA), Office of Land and Emergency Management (OLEM), Office of Superfund Remediation and Technology Information (OSRTI), is giving notice that it proposes to modify a system of records pursuant to the provisions of the Privacy Act of 1974. Superfund Enterprise Management System (SEMS) is being modified to expand the categories of records that may be housed in SEMS and the categories of individuals who may be covered by the system. Additionally, EPA is modifying SEMS to add General Routine Uses B, D, and M, modify General Routine Use L, and add three Specific Routine Uses. The new Specific Routine Uses are related to disclosure of records to protect the environment or public health or safety, including carrying out an investigation or response; to share information with the public in cases of emergency to protect the environment or public health and safety; and to respond to other external requests for information to support programmatic functions. This system of records is an electronic repository of Superfund documents routinely used to house and organize data and information regarding Superfund sites. Records contained in SEMS are used in support of programmatic functions including investigation; cleanup; program planning; community outreach; coordination with state, local and tribal entities; listing and de-listing of Superfund sites; enforcement activities; and litigation. Information related to Superfund sites may be gathered under other statutory authorities because SEMS is an accessible repository for selected non-Superfund sites as well. Privacy is maintained by limiting access to the database containing confidential business and personal information. All exemptions and provisions included in the previously published System of Records Notice (SORN) for SEMS will transfer to the modified SORN for SEMS.

DATES: Persons wishing to comment on this system of records notice must do so by July 15, 2022. New or Modified routine uses for this modified system of records will be effective July 15, 2022.

ADDRESSES: Submit your comments, identified by Docket ID No. EPA-HQ-OLEM-2021-0037, by one of the following methods:

Federal eRulemaking Portal: https://www.regulations.gov. Follow the online instructions for submitting comments.

Email: docket_oms@epa.gov. Include the Docket ID number in the subject line of the message.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OLEM-2021-0037. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752. Further information about EPA Docket Center services and the current operating status is available at https://www.epa.gov/dockets.

FOR FURTHER INFORMATION CONTACT: Jennifer Sutton, Office of Land and Emergency Management (OLEM), Office of Superfund Remediation and Technology Information (OSRTI), Mail Code 5202P, 1200 Pennsylvania Ave. NW, Washington, DC 20460; telephone number (703) 603-8718; Sutton.Jennifer@epa.gov.

SUPPLEMENTARY INFORMATION: EPA created a Privacy Act system of records to allow the Agency to maintain and readily access records to provide project and program managers the ability to plan, manage, track, and report on clean-up and enforcement activities taking place at Superfund sites. The SEMS database application supports the electronic capture, imaging, indexing, and tracking of records which document investigation, cleanup, and enforcement activities at potential and existing hazardous waste sites. The electronic repository of documents is routinely used in a variety of ways, including research, enforcement, litigation support, responses to congressional and Freedom of Information Act (FOIA) requests, public participation in the Superfund process, electronic archiving, cost recovery, disaster recovery, and support of the program and Agency missions. This notification confirms that the SEMS database may now also be used to house and manage documents developed by non-Superfund EPA program offices, including those conducting investigatory and enforcement activities under the Resource Conservation and Recovery Act, the Safe Drinking Water Act, the Clean Air Act, and the Federal Water Pollution Control Act.

Records protected under the Privacy Act are subject to Agency-wide security requirements governing all database systems at EPA. Privacy is maintained by limiting access to the database containing confidential business and personal information. Access to the database has been limited to individuals designated as system Administrators, Remedial Project Managers (RPMs), Data Sponsors, On-Scene Coordinators (OSCs), Information Management Coordinators (IMCs), Budget Coordinators (BCs), Regional Attorneys, Regional Managers, Data Entry Support Staff, Support Contractors, and any other staff with assigned data management responsibilities. This notification confirms that access to utilize and access the documents in the SEMS database may now be expanded to also include individuals holding comparable positions (including enforcement program staff) in EPA offices conducting investigatory and enforcement activities under the Resource Conservation and Recovery Act, the Safe Drinking Water Act, the Clean Air Act, and the Federal Water Pollution Control Act. This notification further clarifies and specifies categories of records that may be present in the SEMS database.

EPA is adding General Routine Use B related to the disclosure of information to sources from which additional information is requested and a General Routine Use D related to disclosure of information to the Office of Management and Budget (OMB). Additionally, EPA is modifying General Routine Use L and adding General Routine Use M regarding response to a suspected or confirmed breach of personally identifiable information. EPA is also modifying SEMS to add three Specific Routine Uses that may include disclosure to appropriate Federal, state, local, and tribal authorities in conformity with Federal, state, local, and tribal laws when necessary to protect the environment or public health or safety, including effectively carrying out an investigation or response. Information sharing agreements may be used as a mechanism to define appropriate limitations on use and disclosure of Privacy Act information by state, tribal, and local officials. Information may also be shared with state agencies and with the public as part of their participation in the Superfund evaluation and decision-making process. This may include public disclosure of addresses where EPA determines cleanup actions are required. In cases of emergency, EPA may share information with members of the public to assure protection of the environment or public health and safety. Records may be disseminated in response to other external requests, and in support of investigation; cleanup; program planning; community outreach; coordination with state, local and tribal entities; listing and de-listing of Superfund sites; enforcement activities; and litigation.

SYSTEM NAME AND NUMBER:

Superfund Enterprise Management System (SEMS), EPA-69.

SECURITY CLASSIFICATION:

Unclassified.

SYSTEM LOCATION:

The system will be managed by the EPA's Office of Emergency Response, OLEM, 1200 Pennsylvania Ave. NW, Mail Code 5103 T, Washington, DC 20460. Information maintained pursuant to this notice may be located at EPA Headquarters Offices or at EPA Regional Offices, or at field offices established as part of the residential assessment field work, depending upon the location where the environmental assessment is conducted or where computer resources are located. Databases may be hosted at the EPA's National Computer Center located at 109 T.W. Alexandra Drive, Durham, NC 27709, or in OLEM's emergency response cloud hosting environment.

SYSTEM MANAGER(S):

Jennifer Sutton, Office of Land and Emergency Management (OLEM), Office of Superfund Remediation and Technology Information (OSRTI), Mail Code 5202P, 1200 Pennsylvania Ave. NW, Washington, DC 20460; telephone number (703) 603-8718; Sutton.Jennifer@epa.gov.

AUTHORITY FOR MAINTENANCE OF THE SYSTEM:

Comprehensive Environmental Response, Compensation and Liability Act, 42 U.S.C. 9604, 9660 and 40 CFR 300; Resource Conservation and Recovery Act, 42 U.S.C. 6981; Clean Air Act, 42 U.S.C. 7403; Safe Drinking Water Act, 42 U.S.C. 300i; 300j-1; the Freedom of Information Act, 5 U.S.C. 552; Toxic Substances Control Act, 15 U.S.C. 2609; and Federal Water Pollution Control Act, 33 U.S.C. 1254, 1318, 1321.

PURPOSE(S) OF THE SYSTEM:

The purpose of SEMS is to provide project and program managers with data and information needed to plan, manage, track and report on investigation, cleanup, and enforcement activities taking place at Superfund sites. SEMS is an electronic repository of documents and data used to disseminate records in response to FOIA and other external requests, and in support of litigation; investigation; cleanup; program planning; community outreach; coordination with state, local and tribal entities; listing and de-listing of Superfund sites; and enforcement activities. SEMS tracks activities at each Superfund site which include assessment; removal; contamination and risk characterization; remedy selection and implementation; post construction operation and maintenance; enforcement activities; financial resources; and community involvement. SEMS may also be used to track activities at non-Superfund sites in the system which may include investigation, risk characterization, and enforcement and negotiation activities.

CATEGORIES OF INDIVIDUALS COVERED BY SYSTEM:

This system covers potentially responsible parties (PRP), EPA employees with responsibilities at specific Superfund sites, members of the public who have made public comments on program decisions or who have environmental sampling results reported for their personal business or residence, and contractor and analytical laboratory staff with responsibilities on specific Superfund sites. This system also covers businesses and individuals subject to EPA regulatory or enforcement authority under the Resource Conservation and Recovery Act, the Safe Drinking Water Act, the Clean Air Act, and the Federal Water Pollution Control Act; EPA employees with responsibilities under those statutes; members of the public who have made public comments on program decisions or who have environmental sampling results reported for their personal business or residence; and contractor and analytical laboratory staff with responsibilities on specific regulatory or enforcement matters.

CATEGORIES OF RECORDS IN THE SYSTEM:

Site location and basic descriptive information; contact information (e.g., name, address, telephone number, email address) for key individuals with information and responsibilities on specific sites; data generated and obtained by EPA regarding site information and actions conducted at the site; information on buildings and other structures; planned and actual site financial and enforcement information; information on potentially responsible parties (PRP) or regulated entities; negotiation data; litigation/referral data; lien data; alternative dispute resolution data; litigation history; correspondence tracking; transcribed voice messages; property access information; land use restrictions; community involvement data (i.e., location, contact data, technical assistance grant data); and medical and public health information pertaining to environmental sampling results or public complaints.

RECORD SOURCE CATEGORIES:

Information placed and maintained in SEMS is derived from, among other sources, existing programmatic records, EPA employees, contractors, grantees, civil investigators and attorneys, analytical laboratories, private entities, the public, state and local cleanup programs and officials, and public records.

ROUTINE USES OF RECORDS MAINTAINED IN THE SYSTEM, INCLUDING CATEGORIES OF USERS AND PURPOSES OF SUCH USES:

The routine uses below are both related to and compatible with the original purpose for which the information was collected. The following general routine uses apply to this system (86 FR 62527, November 10, 2021): A, B, D, E, F, G, H, K, L, and M.

Additional routine uses that apply to this system are:

1. Records may be disclosed to Federal, state, local, and tribal authorities in conformity with Federal, state, local, and tribal laws when necessary to protect the environment or public health or safety, including carrying out an investigation or response. Personal medical records will not be shared. Information sharing agreements may be used as a mechanism to define appropriate limitations on use and disclosure of Privacy Act information by state, tribal, and local officials. Relevant Federal, state, tribal, and local laws may also provide assurance that the information will be kept confidential. Information may also be shared with state agencies and with the public as part of their participation in the Superfund evaluation and decision-making process. This may include public disclosure of addresses where EPA determines cleanup actions are required.

2. In case of emergency, EPA may share information with members of the public to assure protection of the environment or public health and safety.

3. Records may be shared with external parties in support of investigation; cleanup; program planning; community outreach; coordination with state, local and tribal entities; listing and de-listing of Superfund sites; enforcement activities; and litigation.

POLICIES AND PRACTICES FOR STORAGE OF RECORDS:

Records will be stored electronically in an Agency-approved database (Oracle) and managed by system developers and administrators, along with EPA Office of Superfund Remediation and Technology Information (OSRTI) personnel. Incremental system backups are performed nightly and monthly. Actual files are stored in a Windows file server.

POLICIES AND PRACTICES FOR RETRIEVAL OF RECORDS:

Records can be retrieved by Site Name, Site ID Number, Author, Addressee, Document Title, Document Date, and Document ID Number.

POLICIES AND PRACTICES FOR RETENTION AND DISPOSAL OF RECORDS:

Records maintained in this system are subject to record schedule 0755, which is still being finalized.

ADMINISTRATIVE, TECHNICAL, AND PHYSICAL SAFEGUARDS:

Security controls used to protect personal sensitive data in SEMS are commensurate with those required for an information system rated MODERATE for confidentiality, integrity, and availability, as prescribed in National Institute of Standards and Technology (NIST) Special Publication, 800-53, “Security and Privacy Controls for Federal Information Systems and Organizations,” Revision 5.

1. Administrative Safeguards: The system has a single point of access via a front-end Portal. All users are required to complete a new user form (signed by their supervisor) and take online security training before they are provided with access. All authorized users of the SEMS application are required to take an annual security and privacy awareness training identifying the user's role and responsibilities for protecting the Agency's information resources, as well as consequences for not adhering to the policy.

2. Technical Safeguards: Information is maintained in a secure username/password protected environment. Permission-level assignments allow users access only to those functions for which they are authorized. Audit logs are reviewed on a monthly basis to identify system access outside of normal business hours, anomalous user accounts or server names, or login failures. No external access to SEMS is provided.

3. Physical Safeguards: Access to all information and hardware is maintained in a secure, access-controlled facility at the NCC.

RECORD ACCESS PROCEDURES:

All requests for access to personal records should cite the Privacy Act of 1974 and reference the type of request being made (i.e., access). Requests must include: (1) the name and signature of the individual making the request; (2) the name of the Privacy Act system of records to which the request relates; (3) a statement whether a personal inspection of the records or a copy of them by mail is desired; and (4) proof of identity. A full description of EPA's Privacy Act procedures for requesting access to records is included in EPA's Privacy Act regulations at 40 CFR part 16.

CONTESTING RECORD PROCEDURES:

Requests for correction or amendment must include: (1) the name and signature of the individual making the request; (2) the name of the Privacy Act system of records to which the request relates; (3) a description of the information sought to be corrected or amended and the specific reasons for the correction or amendment; and (4) proof of identity. A full description of EPA's Privacy Act procedures for the correction or amendment of a record is included in EPA's Privacy Act regulations at 40 CFR part 16.

NOTIFICATION PROCEDURES:

Individuals who wish to be informed whether a Privacy Act system of records maintained by EPA contains any record pertaining to them, should make a written request to the EPA, Attn: Agency Privacy Officer, MC 2831T, 1200 Pennsylvania Ave. NW, Washington, DC 20460, or by email at: privacy@epa.gov. A full description of EPA's Privacy Act procedures is included in EPA's Privacy Act regulations at 40 CFR part 16.

EXEMPTIONS PROMULGATED FOR THE SYSTEM:

None.

HISTORY:

80 FR 21237 (February 17, 2015).

Vaughn Noga,
Senior Agency Official for Privacy.

[FR Doc. 2022-12825 Filed 6-14-22; 8:45 am]

BILLING CODE 6560-50-P